DEPARTMENT OF THE INTERIOR

National Park Service

[NPS-NER-ACAD-31765; PS.SACAD001.00.1]

Minor Boundary Revision at Acadia National Park

AGENCY: National Park Service, Department of the Interior.

ACTION: Notification of boundary revision.

SUMMARY: The boundary of Acadia National Park is modified to include one parcel of land totaling 0.88 acres, more or less, and will exclude one parcel of land totaling 0.20 acres, more or less, both parcels are located in Bar Harbor, Hancock County, Maine.

DATES: The effective date of this boundary revision is July 20, 2021.

ADDRESSES: The map depicting this boundary revision is available for inspection at the following locations: National Park Service, Interior Region 1, Land Resources Program Center, 115 John Street, 5th Floor, Lowell, MA 01852, and National Park Service, Department of the Interior, 1849 C Street NW, Washington, DC 20240.

FOR FURTHER INFORMATION CONTACT: Realty Officer Jennifer Cherry, National Park Service, Interior Region 1, Land Resources Program Center, 115 John Street, 5th Floor, Lowell, MA 01852, telephone (978) 970-5260.

SUPPLEMENTARY INFORMATION: Notice is hereby given that, pursuant to Public Law 99-420, 100 stat. 955, as amended by Public Law 116-9, 133 Stat. 728-30, the boundary of Acadia National Park is modified to include one adjoining tract containing approximately 0.88 acres of land, and to exclude a portion of one tract of land containing approximately 0.20 acres of land. The National Park Service intends to exchange these two tracts following the completion of the boundary revision. The boundary revision is depicted on Map No. 123/173,690, dated September 2020.

Sections 101 and 102 of Public Law 99-420, 100 Stat. 955, as amended by section 2108 of Public Law 116-9, 133 stat. 728-30, provide that the Secretary of the Interior is authorized to make a limited boundary revision, conforming to the terms of the legislation, by publication in the Federal Register after submitting written notice of the proposed boundary revision to the Committee on Natural Resources of the House of Representatives, the Committee on Energy and Natural Resources of the Senate, the Acadia National Park Advisory Commission, and the Maine Congressional Delegation. The Committees, the Advisory Commission, and the Maine Congressional Delegation have been notified of this boundary revision. Required consultations with the Town of Bar Harbor have also been completed and written consent obtained from the affected property owners. This boundary revision and subsequent real property exchange are necessary for the preservation, protection, and proper management of the park's natural resources.

Gay E. Vietzke,
Regional Director, Interior Region 1.

[FR Doc. 2021-15387 Filed 7-19-21; 8:45 am]

BILLING CODE 4312-52-P